FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011268-016.

Title: New Zealand/United States Interconference and Carrier Discussion Agreement.

Parties: New Zealand/United States Container Lines Association; P&O Nedlloyd Limited; Hamburg-Süd; LauritzenCool AB; Australia-New Zealand Direct Line; FESCO Ocean Management Ltd., A.P. Moller-Maersk A/S; and Lykes Lines Limited, LLC.

Filing Party: Wayne R. Rohde, Esq.; Sher & Blackwell, LLP; 1850 M Street NW., Suite 900; Washington, DC 20036.

Synopsis: The amendment would update, clarify, and reorganize the authority contained in the agreement, delete obsolete or unnecessary language, make miscellaneous technical corrections, change the name of the agreement, and restate the agreement.

Agreement No.: 011865-002.

Title: CMA CGM/LT Amerigo Express MUS Slot Charter Agreement.

Parties: CMA CGM, S.A. and Lloyd Triestino di Navigazione S.p.A.

Filing Party: Paul M. Keane, Esq.; Cichanowicz, Callan, Keane, Vengrow & Textor, LLP; 61 Broadway, Suite 3000; New York, NY 10006.

Synopsis: The amendment recasts the agreement as a reciprocal space-chartering agreement. The parties have requested expedited review.

By Order of the Federal Maritime Commission.
Dated: December 10, 2004.
Bryant L. VanBrakle,
Secretary.

[FR Doc. 04-27440 Filed 12-14-04; 8:45 am]

BILLING CODE 6730-01-P